DEPARTMENT OF THE INTERIOR

Fish and Wildlife Service

Virgin River Habitat Conservation and Recovery Program, Clark County, NV

AGENCY: Fish and Wildlife Service, Interior.

ACTION: Notice of intent to prepare an environmental impact statement (EIS) and notice of public meetings.

SUMMARY: Pursuant to the National Environmental Policy Act (NEPA), the Fish and Wildlife Service (Service), advises the public that we intend to gather information necessary to prepare an Environmental Impact Statement (EIS) regarding the proposed Virgin River Habitat Conservation and Recovery Program (VRHCRP) and issuance of an incidental take permit (Permit) for endangered and threatened species in accordance with section 10(a) of the Endangered Species Act of 1973, as amended (Act). The intent of the VRHCRP is to provide a recovery strategy for five species in the Lower Virgin River Basin. The VRHRCP would be used as a tool when conducting future section 7 consultations, implementing recovery actions and preparing habitat conservation plans for new and existing development.

We provide this notice to: (1) Describe the proposed action and possible alternatives; (2) advise other Federal and State agencies, affected tribes, and the public of our intent to prepare an EIS; (3) announce the initiation of a 30-day public scoping period; and (4) obtain suggestions and information on the scope of issues to be included in the EIS.

DATES: Written comments from all interested parties must be received on or before October 29, 2007. Public meetings will be held on October 16 and 17, 2007 from 4 to 6 p.m.

ADDRESSES: The public meetings will be held at the following locations: October 16, 2007 from 4 to 6 p.m. at the Federal Interagency Building, 4701 North Torrey Pines Dr., Las Vegas, NV 89130; and October 17, 2007 from 4 to 6 p.m. at Mesquite City Hall, 10 East Mesquite Blvd., Mesquite, NV 89027.

Information, written comments, or questions related to the preparation of the EIS and NEPA process should be sent to Robert D. Williams, Field Supervisor, Nevada Fish and Wildlife Office, Fish and Wildlife Service, 4701 North Torrey Pines Dr., Las Vegas, NV 89130; or fax (702) 515-5231.

FOR FURTHER INFORMATION CONTACT: Amy LaVoie, Nevada Fish and Wildlife Office, Fish and Wildlife Service, 4701 North Torrey Pines Dr., Las Vegas, Nevada 89130, or at (702) 515-5230.

SUPPLEMENTARY INFORMATION:

Reasonable Accommodation

Persons needing reasonable accommodations in order to attend and participate in the public meeting should contact Amy LaVoie (See ADDRESSES) at (702) 515-5230 as soon as possible. In order to allow sufficient time to process requests, please call no later than one week before the public meeting. Information regarding this proposed action is available in other formats upon request.

Background

The Service together with the Bureau of Land Management, City of Mesquite, Clark County, National Park Service, Nevada Department of Wildlife, Southern Nevada Water Authority, and Virgin Valley Water District propose to develop the VRHCRP. The intent of the VRHCRP is to provide a recovery strategy for five species in the Lower Virgin River Basin: Virgin River chub (Gila seminuda), woundfin (Plagopterus argentissimus), southwestern willow flycatcher (Empidonax traillii extimus), Yuma clapper rail (Rallus longirostris yumanensis), and yellow-billed cuckoo (Coccyzus americanus). Species may be added or deleted during the course of the development of the VRHCRP based on further analysis, new information, agency consultation, and public comment. The VRHRCP would be used by the participating agencies as a tool when conducting future section 7 consultations, implementing recovery actions and preparing habitat conservation plans.

The area to be addressed within the proposed VRHCRP would be all lands within the the 100-year floodplain of the Virgin River and its tributaries (including ephemeral washes) from the Mesquite Diversion (located approximately 2 miles upstream of the Nevada/Arizona border) to the confluence of Lake Mead, as defined by a line from the southern end of Lower Mormon Mesa, through Fish Island, to Little Bitter Wash. In addition, some recovery actions may be expanded to include all land within the 100-year floodplain of the Virgin River and its tributaries from the Mesquite Diversion upstream to the base of the Virgin River Gorge in Arizona or to the location of the future non-native fish barrier to be established by the Virgin River Resource Management and Recovery Program (Utah program).

The VRHCRP would contain a habitat conservation plan (HCP) for the City of Mesquite and Clark County (Permit Applicants). The HCP would result in take authorization for otherwise lawful actions, such as municipal and private development that may incidentally take or harm animal species or their habitats within the HCP area. Conservation measures to offset the effects on the covered species from proposed development activities would be developed and implemented. The applicants propose to expand the city limits of Mesquite and unincorporated Clark County in and near the township or area of Bunkerville and Riverside, and implement conservation measures for the resulting development activities, along with existing activities currently undertaken by the Permit Applicants with the potential to affect federally listed species. These activities may include new and existing development activities in upland and riparian areas; ongoing water supply and flood control activities; ongoing agricultural and livestock practices; and the ongoing management of trails, parks, and open spaces. The Permit Applicants intend to request a Permit for incidental take of federally listed threatened or endangered species, as well as other species identified in the VRHCRP.

Section 9 of the Act and Federal regulations prohibit the “take” of wildlife species listed as endangered or threatened (16 U.S.C. 1538). The Act defines the term “take” as: To harass, harm, pursue, hunt, shoot, wound, kill, trap, capture or collect listed species, or to attempt to engage in such conduct (16 U.S.C. 1532). Harm includes significant habitat modification or degradation that actually kills or injures listed wildlife by significantly impairing essential behavioral patterns, including breeding feeding, and sheltering [50 CFR 17.3(c)]. Pursuant to section 10(a)(1)(B) of the Act, we may issue permits to authorize “incidental take” of listed species. “Incidental take” is defined by the Act as take that is incidental to, and not the purpose of, carrying out an otherwise lawful activity. Regulations governing permits for threatened species and endangered species, respectively, are at 50 CFR 17.32 and 50 CFR 17.22.

Environmental Impact Statement

The EIS will consider the proposed action, no action, and a reasonable range of alternatives. A detailed description of the proposed action and alternatives will be included in the EIS. Alternatives considered for analysis in an EIS may include variations in the scope of proposed activities; variations in the location, amount, and types of conservation measures and/or recovery actions; variations in activity duration; or a combination of these elements. In addition, the EIS will identify potentially significant direct, indirect, and cumulative impacts on biological resources, land use, air quality, water quality, water resources, socioeconomic conditions, and other environmental issues that could occur with implementation of the proposed action or other alternatives. For all potentially significant impacts, the EIS identifies avoidance, minimization, and mitigation measures to reduce these impacts, where feasible, to a level below significance.

Environmental review of the EIS will be conducted in accordance with the requirements of NEPA (42 U.S.C. 4321 et seq.), its implementing regulations (40 CFR parts 1500-1508), other applicable regulations, and Service procedures for compliance with those regulations. This notice is being furnished in accordance with 40 CFR Section 1501.7 and 1508.22 to obtain suggestions and information from other agencies and the public on the scope of issues and alternatives to be addressed in the EIS. The primary purpose of the scoping process is to identify important issues raised by the public related to the proposed action. Written comments from interested parties are invited to ensure that the full range of issues related to the permit application is identified. Comments will only be accepted in written form. You may submit written comments by mail, facsimile transmission, or in person (see ADDRESSES). All comments received, including names and addresses, will become part of the official administrative record and may be made available to the public.

Our practice is to make comments, including names, home addresses, home phone numbers, and e-mail addresses of respondents, available for public review. Individual respondents may request that we withhold their names and/or homes addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organization or businesses, and from individuals identifying themselves as representatives of or officials of organizations or businesses, available for public inspection in their entirety.

Dated: September 21, 2007.
Ken McDermond,
Deputy Manager, California/Nevada Operations Office, Sacramento, California.

[FR Doc. 07-4781 Filed 9-26-07; 8:45 am]

BILLING CODE 4310-55-M